DEPARTMENT OF JUSTICE

Notice of Lodging of Amended Consent Decree Under the Clean Water Act Section 309, 33 U.S.C. 1319

Notice is hereby given that on April 26, 2012, a proposed Amended Consent Decree (the “Consent Decree”) in United States of America v. Trident Seafoods Corporation, Civil Action No. 11-1616, was lodged with the United States District Court for the Western District of Washington. The case is a civil action under Section 309 of the Clean Water Act, 33 U.S.C. 1319 (“CWA”), for violations of CWA Section 301(a), 33 U.S.C. 1311(a), and violations of the permit conditions and limitations of the National Pollutant Discharge Elimination System (“NPDES”) permits issued to Trident by the EPA under Section 402(a) of the CWA, 33 U.S.C. 1342(a). To resolve Trident's liability, the Amended Consent Decree requires, and Trident has agreed to pay, a civil penalty of $2.5 million and to perform specified injunctive measures to reduce its discharge of seafood processing wastes and to address sea floor waste piles created by its discharges.

On September 28, 2011, a Proposed Consent Decree was lodged with this Court and a Federal Register notice was published on October 4, 2011 (76 FR 61384-01, 2011 WL 4542583 (F.R.)). For thirty (30) days after that date, the Department of Justice received comments relating to the Consent Decree. These comments were considered and incorporated into the Amended Consent Decree. This Notice invites public comment on the Amended Consent Decree.

For thirty (30) days after the date of this publication, the Department of Justice will receive comments relating to the Amended Consent Decree. Comments should be addressed to the Assistant Attorney General, Environment and Natural Resources Division, and either emailed to pubcomment-ees.enrd@usdoj.gov or mailed to P.O. Box 7611, U.S. Department of Justice, Washington, DC 20044-7611. In either case, the comments should refer to United States of America v. Trident Seafoods Corporation, DJ. Ref. 90-5-1-1-2002/2.

During the comment period, the Amended Consent Decree may also be examined on the following Department of Justice Web site, http://www.usdoj.gov/enrd/Consent_Decrees.html. A copy of the Amended Consent Decree may also be obtained by mail from the Consent Decree Library, P.O. Box 7611, U.S. Department of Justice, Washington, DC 20044-7611 or by faxing or emailing a request to “Consent Decree Copy” (eescdcopy.enrd@usdoj.gov), fax no. (202) 514-0097, phone confirmation number (202) 514-5271. In requesting a copy from the Consent Decree Library, please enclose a check in the amount of $12.75 (25 cents per page reproduction cost) payable to the U.S. Treasury.

Robert E. Maher, Jr.,
Assistant Section Chief, Environmental Enforcement Section.

[FR Doc. 2012-11108 Filed 5-8-12; 8:45 am]

BILLING CODE 4410-15-P